NATIONAL FOUNDATION ON THE ARTS AND THE HUMANITIES

30-Day Notice for “Applications from Students for Agency Initiatives Poetry Out Loud or the Musical Theater Songwriting Challenge for High School Students”

AGENCY: National Endowment for the Arts.

ACTION: Notice of proposed collection; comment request.

SUMMARY: The NEA, as part of its continuing effort to reduce paperwork and respondent burden, conducts a preclearance consultation program to provide the general public and federal agencies with an opportunity to comment on proposed and/or continuing collections of information in accordance with the Paperwork Reduction Act of 1995. This program helps to ensure that requested data is provided in the desired format; reporting burden (time and financial resources) is minimized; collection instruments are clearly understood; and the impact of collection requirements on respondents is properly assessed. Currently, the NEA is soliciting comments concerning the proposed information collection of: Applications from Students for Agency Initiatives Poetry Out Loud or the Musical Theater Songwriting Challenge for High School Students.” Copies of this ICR, with applicable supporting documentation, may be obtained by visiting www.Reginfo.gov.

DATES: Interested persons are invited to submit comments within 30 days from the date of this publication in the Federal Register.

ADDRESSES: Comments should be sent to the Office of Information and Regulatory Affairs, Attn: OMB Desk Officer for the National Endowment for the Arts, Office of Management and Budget, Room 10235, Washington, DC 20503.

FOR FURTHER INFORMATION CONTACT: The Office of Information and Regulatory Affairs, Attn: OMB Desk Officer for the National Endowment for the Arts, Office of Management and Budget, Room 10235, Washington, DC 20503, (T) 202-395-7316.

SUPPLEMENTARY INFORMATION: The Office of Management and Budget (OMB) is particularly interested in comments which: (1) Evaluate whether the proposed collection of information is necessary for the proper performance of the functions of the agency, including whether the information will have practical utility; (2) Evaluate the accuracy of the agency's estimate of the burden of the proposed collection of information including the validity of the methodology and assumptions used; (3) Enhance the quality, utility, and clarity of the information to be collected; and (4) Could help minimize the burden of the collection of information on those who are to respond, including through the use of electronic submission of responses through Grants.gov.

Agency: National Endowment for the Arts.

Title: “Applications from Students for Agency Initiatives Poetry Out Loud or the Musical Theater Songwriting Challenge for High School Students”

Frequency: Annually.

Affected Public: Organizations.

Estimated Number of Respondents: 300.

Total burden hours: 300 hours.

Total annualized capital/startup costs: 0.

Total annual costs (operating/maintaining systems or purchasing services): $3,350.

Dated: September 29, 2021.
Daniel Beattie,
Director, Office of Guidelines and Panel Operations, Administrative Services, National Endowment for the Arts.

[FR Doc. 2021-21518 Filed 10-1-21; 8:45 am]

BILLING CODE 7537-01-P